DEPARTMENT OF COMMERCE

National Oceanic and Atmospheric Administration

50 CFR Part 679

[Docket No. 051116304-6035-02; I.D. 110805A]

RIN 0648-AT92

Fisheries of the Exclusive Economic Zone Off Alaska; Total Allowable Catch Amount for “Other Species” in the Groundfish Fisheries of the Gulf of Alaska

AGENCY: National Marine Fisheries Service (NMFS), National Oceanic and Atmospheric Administration (NOAA), Commerce.

ACTION: Final rule.

SUMMARY: NMFS issues a final rule that implements Amendment 69 to the Fishery Management Plan for Groundfish of the Gulf of Alaska (FMP). Amendment 69 amends the manner in which the total allowable catch (TAC) for the “other species” complex is annually determined in the Gulf of Alaska (GOA). The amendment allows the TAC amount for the “other species” complex to be set less than or equal to 5 percent of the sum of groundfish targets species in the GOA. This final rule also raises the maximum retainable amount (MRA) of “other species” in the directed arrowtooth flounder fishery from 0 percent to 20 percent. This action is necessary to reduce the potential for overfishing those species in the “other species” complex in the GOA and to reduce the amount of “other species” required to be discarded in the arrowtooth flounder fishery. This action is intended to promote the goals and objectives of the Magnuson-Stevens Fishery Conservation and Management Act (Magnuson-Stevens Act), the FMP, and other applicable laws.

DATES: Effective April 12, 2006.

ADDRESSES: Copies of Amendment 69, the Environmental Assessment/Regulatory Impact Review/Initial Regulatory Flexibility Analysis (EA/RIR/IRFA), and EA/RIR/Final Regulatory Flexibility Analysis (FRFA) prepared for this action may be obtained from NMFS, Alaska Region, P.O. Box 21668, Juneau, AK 99802, Attn: Records Officer or from the Alaska Region website at www.fakr.noaa.gov. The FMP is available from www.fakr.noaa.gov/npfmc/fmp/goa/goa.htm.

FOR FURTHER INFORMATION CONTACT: Tom Pearson, 907-481-1780 or tom.pearson@noaa.gov.

SUPPLEMENTARY INFORMATION: The groundfish fisheries in the exclusive economic zone of the GOA are managed under the FMP. The North Pacific Fishery Management Council (Council) prepared the FMP under the authority of the Magnuson-Stevens Act, 16 U.S.C. 1801, et seq. Regulations implementing the FMP appear at 50 CFR part 679. General regulations governing U.S. fisheries also appear at 50 CFR part 600.

The Council submitted Amendment 69 for review by the Secretary of Commerce. A notice of availability of the amendment was published in the Federal Register on November 16, 2005 (70 FR 69505), with comments invited through January 17, 2006. The proposed rule for Amendment 69 was published in the Federal Register on November 29, 2005 (70 FR 71450), with comments invited through January 13, 2006. No comments were received on the notice of availability or the proposed rule. The final rule is unchanged from the proposed rule. Amendment 69 was approved by the Secretary of Commerce on February 13, 2006.

Background

In June 2005, the Council recommended Amendment 69 as an interim measure to prevent overfishing of species in the “other species” complex until a more comprehensive management plan could be developed. Designation and management of the “other species” complex have evolved through a series of amendments to the GOA FMP. The proposed rule (70 FR 71451, November 29, 2005) provides an overview of how the “other species” complex management has changed by amendments to the FMP. The proposed rule also provides a description of the effects of changing the setting of TAC for “other species” and of changing the “other species” MRA for the arrowtooth flounder fishery.

Final Regulatory Amendment

To manage the incidental harvest of the “other species” complex, this action revises Table 10 of 50 CFR part 679 to raise the MRA for the “other species” complex from 0 percent to 20 percent in the arrowtooth flounder fishery in the GOA. This revision is necessary to properly manage the retention of “other species” in the arrowtooth flounder fishery and to potentially reduce the amount of discards of otherwise marketable fish in the “other species” complex.

This action is intended to meet the conservation objectives of the Magnuson-Stevens Act to reduce the potential for overfishing the species groups in the “other species” complex and to efficiently use fishery resources by reducing potential discards. This action is intended to be an interim step toward the Council's development of a more comprehensive approach for the management of “other species.”

In December 2005, pending Secretarial approval of Amendment 69, the Council recommended a TAC for the “other species” complex in 2006 and 2007 of 4,500 metric tons (mt). This recommendation was based on an estimate of 4,000 mt needed as incidental catch in the other groundfish and halibut fisheries and public testimony in support of a modest directed fishery for approximately 500 mt of “other species.” The 2006 TAC for “other species” is 13,525 mt (70 FR 8958, February 24, 2005). In early 2006, NMFS will publish in the Federal Register proposed specifications notice to solicit public comment on revising the 2006 and 2007 TACs for “other species” to 4,500 mt.

Classification

The Regional Administrator determined that Amendment 69 is necessary for the conservation and management of the GOA groundfish fishery and that it is consistent with the Magnuson-Stevens Act and other applicable laws.

This final rule has been determined to be not significant for the purposes of Executive Order 12866.

NMFS prepared an IRFA and a FRFA which describe any adverse impacts this final rule would have on directly regulated small entities (see ADDRESSES). The IRFA analyzes two FMP alternatives to revise the manner in which the annual TAC for the “other species” in the GOA is established, along with the status quo or no action alternative. In addition, two suboptions to revise the MRAs for “other species” in the groundfish fisheries in the GOA are analyzed along with the status quo, or no action suboption. A summary of the FRFA for this action follows.

Amendment 69 revises the manner in which the annual TAC for the “other species” complex in the GOA is established and raises the MRA for “other species” from 0 percent to 20 percent in the arrowtooth flounder fishery. As part of its annual groundfish harvest specification process, the Council will recommend a TAC amount for the “other species” complex at less than or equal to 5 percent of the sum of the directed groundfish fisheries TAC amounts. The objective of this action is to give the Council greater flexibility in recommending a TAC amount for “other species” to better protect individual species in the “other species” complex from overfishing and to make a sustainable fishery for the “other species” complex more likely.

The legal basis for this action is found in the Magnuson-Stevens Act and in the GOA groundfish FMP promulgated pursuant to that Act.

Based on 2003 data, 782 small catcher vessels and 18 small catcher processors would be directly regulated by this action. Most of these (640 catcher vessels and 14 small catcher processors) were hook-and-line vessels. In addition, 133 catcher vessels and 1 catcher processor used pot gear, and 89 small catcher vessels and 3 small catcher processors used trawl gear. All these vessels are considered “small entities” as defined by the Regulatory Flexibility Act. In 2003, each of these vessels had average revenues of $200,000 from the federally managed groundfish fisheries. Average revenues were $160,000 for each catcher vessel and $2,350,000 for each catcher processor.

By setting TAC for “other species” at less than 5 percent of the sum of other groundfish TACs, potential future harvests of “other species” and gross revenues from these harvests are limited in the short run. In the long run, however, the biomass of “other species” would be given additional protection. Actual impacts to small entities would depend on the actual TAC amount recommended for “other species” by the Council and approved by NMFS. These impacts would be assessed in the initial regulatory flexibility analysis for the TAC specification action.

Nothing in the proposed action would result in changes in reporting or recordkeeping requirements.

The analysis did not reveal any Federal rules that duplicate, overlap, or conflict with the proposed action.

No comments were received on the IRFA or the economic impacts of the rule.

The FRFA evaluated a no-action alternative, the preferred alternative and an alternative that would allow for only incidental catch of “other species.” Under the no-action alternative, the TAC for the “other species” complex would remain at 5 percent of the sum of the other groundfish TACs. The 2006 TAC for the “other species” complex is 13,525 mt (70 FR 8958, February 24, 2005). If this amount were harvested by targeting a single species in the “other species” complex it could drive down that species biomass and reduce its reproductive potential. While revenues from the fishery would be higher in the short run, they would be lower in the longer run. Thus, while this alternative may have imposed fewer short run restrictions on small fishing operations, it did not meet the objectives of providing protection to individual species within the “other species” complex in the GOA. This protection is necessary to a sustainable fishery. The alternative that would allow only incidental catch of “other species” did not allow a directed fishery for “other species.” This alternative would have prevented the Council's use of the best available information in determining the appropriate management for “other species.” For example, if the best available information indicated that a directed fishery for “other species” could occur without harming its future sustainability, then achieving its optimum yield would be prevented by this alternative. The preferred alternative, however, would allow the Council to decide whether to allow for a target fishery or for only incidental catch based on the latest stock assessment information.

The FRFA evaluated the preferred option to set the MRA for “other species” in the arrowtooth flounder fishery to 20 percent. The MRA for “other species” would be 20 percent in all of the GOA groundfish fisheries with this action. Setting the MRA at 20 percent in the arrowtooth flounder fishery would allow fishermen to retain and sell a limited amount of “other species.” Allowing fishermen to retain and sell “other species” would reduce discards and would allow for revenue from “other species” harvest that would otherwise be discarded without this action. A higher MRA might result in fishermen topping-off their harvest up to the MRA for “other species” if a developing market increases the price of “other species.” The MRA for “other species” at 20 percent is a compromise that addresses fluctuating “other species” incidental catch in the groundfish fisheries, preventing discards, and allowing for some revenue without encouraging topping-off behavior.

The FRFA also considered two additional MRA options that could be applied to each of the TAC alternatives. One was a status quo option that would leave the “other species” MRA in the directed arrowtooth flounder fishery at 0 percent. This option could cause greater regulatory discards in the arrowtooth flounder fishery and reduce revenues to fishermen compared to the preferred alternative Another MRA option set the “other species” MRA in each target fishery (not just arrowtooth flounder) equal to the overall average incidental catch of “other species” in the groundfish fisheries. Incidental catch of “other species” in other directed fisheries rarely exceeded 2 percent of the targeted species catch. For many target fisheries, the “other species” MRA under this option would be less than the current 20 percent. This alternative would have increased the MRA in the arrowtooth flounder fishery, but not as much as the preferred alternative. With an “other species” MRA equal to the historical average incidental catch, fishermen who incidentally catch “other species” above the historical average would have to discard the excess. This may result in reduced revenues if the fishermen would otherwise have been able to sell the “other species.” Because of the fluctuation in incidental catch of “other species” among years, this option has a greater potential adverse impact on directly regulated small entities than the option implemented by this final rule.

The TAC alternative and MRA option chosen for this action minimize the economic impacts on small entities. The IRFA found that the preferred alternative for the “other species” TAC has no adverse impact on directly regulated small entities. The preferred MRA option has the smallest economic impacts on small entities compared to status quo and the other MRA option analyzed.

Small Entity Compliance Guide

This action revises Table 10 to 50 CFR part 679 which lists the MRAs for groundfish fisheries. This action requires small entities in the groundfish fisheries to comply with the amended MRA for “other species” in the arrowtooth flounder directed fishery. This action does not require any additional compliance from small entities. To facilitate compliance with the MRAs in Table 10, NMFS provides a link to Table 10 at the following Web site: http://www.fakr.noaa.gov/rr/tables.htm. Copies of this final rule are available from NMFS (see ADDRESSES) and at the following Web site: http://www.fakr.noaa.gov.

List of Subjects in 50 CFR Part 679

Alaska, Fisheries, Recordkeeping and reporting requirements.

Dated: March 7, 2006.
James W. Balsiger,
Acting Deputy Assistant Administrator for Regulatory Programs, National Marine Fisheries Service.

For reasons set out in the preamble, 50 CFR part 679 is amended as follows:

PART 679—FISHERIES OF THE EXCLUSIVE ECONOMIC ZONE OFF ALASKA

1. The authority citation for part 679 continues to read as follows:

Authority: 16 U.S.C. 773 et seq.; 1540(f); 1801 et seq.; 1851 note; 3631 et seq.

2. Table 10 to part 679 is revised to read as follows:

BILLING CODE 3510-22-S

[FR Doc. 06-2388 Filed 3-10-06; 8:45 am]

BILLING CODE 3510-22-C